ENVIRONMENTAL PROTECTION AGENCY

[EPA-HQ-OPPT-2020-0617; FRL-11648-01-OCSPP]

Agency Information Collection Activities; Proposed Renewal of an Existing ICR Collection and Request for Comment; Collection of Information for TSCA Mercury Inventory Reporting

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Collection of Information for TSCA Mercury Inventory Reporting,” identified by EPA ICR No. 2567.05 and OMB Control No. 2070-0207. This ICR represents a renewal of an existing ICR that is currently approved through February 28, 2025. Before submitting the ICR to OMB for review and approval under the PRA, EPA is soliciting comments on specific aspects of the information collection that is summarized in this document. The ICR and accompanying material are available in the docket for public review and comment.

DATES: Comments must be received on or before July 1, 2024.

ADDRESSES: Submit your comments, identified by docket identification (ID) number EPA-HQ-OPPT-2020-0617, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Sleasman, Mission Support Division (7602M), Office of Program Support, Office of Chemical Safety and Pollution Prevention, Environmental Protection Agency, 1200 Pennsylvania Ave. NW, Washington, DC 20460-0001; telephone number: (202) 566-1206; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility;

2. Evaluate the accuracy of the Agency's estimates of the burden of the proposed collection of information, including the validity of the methodology and assumptions used;

3. Enhance the quality, utility, and clarity of the information to be collected; and

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Collection of Information for TSCA Mercury Inventory Reporting.

EPA ICR No.: 2567.05.

OMB Control No.: 2070-0207.

ICR status: This ICR is currently approved through February 28, 2025. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: As directed under TSCA, EPA is required to assist in the preparation and publication in the Federal Register of an “inventory of mercury supply, use, and trade in the United States” (15 U.S.C. 2607(b)(10)(B) and (D)). Based on the inventory of information collected through this ICR, the Agency is directed to “identify any manufacturing processes or products that intentionally add mercury” and “recommend actions, including proposed revisions of Federal law or regulations, to achieve further reductions in mercury use” (15 U.S.C. 2607(b)(10)(C)).

The primary purpose of this ICR is to support the development of that inventory. In turn, the inventory will help the Agency identify uses of mercury and recommend means to achieve further reductions of such uses in commerce. In addition, the Agency seeks to obtain the information necessary to achieve its goal to further reduce the use of mercury in products and certain manufacturing processes in order to prevent future releases to the environment, as well as assist the United States in reporting implementation under the Minamata Convention. EPA seeks to enhance its current information on how much mercury is used, in which products and manufacturing processes, and whether certain products are manufactured domestically, imported, or exported.

Reporting is required from any person who manufactures (including imports) mercury or mercury-added products, as well as any person who otherwise intentionally uses mercury in a manufacturing process under TSCA section 8(b). The Agency promulgated reporting requirements at 40 CFR part 713. To avoid duplication, EPA coordinated the reporting with the Interstate Mercury Education and Reduction Clearinghouse (IMERC).

Burden statement: The annual public reporting and recordkeeping burden for this collection of information is estimated to average 25 hours per respondent annually or a total of 75 hours per respondent over the three-year life cycle of the ICR. Burden is defined in 5 CFR 1320.3(b).

The ICR, which is available in the docket along with other related materials, provides a detailed explanation of the collection activities and the burden estimate that is only briefly summarized here:

Forms: 9600-024.

Respondents/affected entities: Entities potentially affected are those that manufacture (including import) mercury, manufacture (including import) mercury containing products, and those who intentionally use mercury in a manufacturing process.

Respondent's obligation to respond: Mandatory, per 40 CFR 713.

Frequency of response: Triennial.

Total estimated number of potential respondents: 105.

Total estimated average number of responses for each respondent: 1.

Total estimated annual respondent burden hours: 2573 hours.

Total estimated annual respondent costs: $223,592, which includes $0 for capital investment or maintenance and operational costs.

III. Are there changes in the estimates from the last approval?

There is a decrease of 14,775 hours in the total estimated industry respondent burden compared with that identified in the ICR currently approved by OMB. This decrease reflects a change in EPA's method of estimating the number of expected reports. In 2021, EPA amended the original final rule to effectuate the vacatur ordered by the Second Circuit Court. In this ICR, with data available from the Mercury Inventory and with no new changes to the rule itself, this ICR utilizes data from the Reporting Year 2021 of the Mercury Inventory. In the RY 2021, there were 105 submissions (the previous ICR used an estimate of 252). This ICR assumes each respondent completes the entire form. Wages were also updated to 2022 dollars. These changes represent adjustments.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: April 26, 2024.
Michal Freedhoff,
Assistant Administrator, Office of Chemical Safety and Pollution Prevention.

[FR Doc. 2024-09527 Filed 5-1-24; 8:45 am]

BILLING CODE 6560-50-P